DEPARTMENT OF COMMERCE

National Oceanic and Atmospheric Administration

Agency Information Collection Activities; Submission to the Office of Management and Budget (OMB) for Review and Approval; Comment Request; Observer Programs' Information That Can Be Gathered Only Through Questions

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection request must be received on or before September 29, 2020.

ADDRESSES: Interested persons are invited to submit written comments to Adrienne Thomas, NOAA PRA Officer, at Adrienne.thomas@noaa.gov. Please reference OMB Control Number 0648-0593 in the subject line of your comments. Do not submit Confidential Business Information or otherwise sensitive or protected information.

FOR FURTHER INFORMATION CONTACT: Requests for additional information or specific questions related to collection activities should be directed to Lee Benaka, Acting National Observer Program Lead, NOAA, 1315 East-West Highway, Silver Spring, MD 20910, (301-427-8554), and lee.benaka@noaa.gov.

SUPPLEMENTARY INFORMATION:

I. Abstract

The National Oceanic and Atmospheric Administration (NOAA), National Marine Fisheries Service (NMFS) deploys fishery observers on United States (U.S.) commercial fishing vessels and to fish processing plants in order to collect biological and economic data. NMFS has at least one observer program in each of its five Regions. These observer programs provide the most reliable and effective method for obtaining information that is critical for the conservation and management of living marine resources. Observer programs primarily obtain information through direct observations by employees or agents of NMFS; and such observations are not subject to the Paperwork Reduction Act (PRA). However, observer programs also collect the following information that requires clearance under the PRA: (1) Standardized questions of fishing vessel captains/crew or fish processing plant managers/staff, which include gear and performance questions, safety questions, and trip costs, crew size and other economic questions; (2) questions asked by observer program staff/contractors to plan observer deployments; (3) forms that are completed by observers and that fishing vessel captains are asked to review and sign; (4) questionnaires to evaluate observer performance; and (5) a form to certify that a fisherman is the permit holder when requesting observer data from the observer on the vessel. NMFS seeks to renew OMB PRA clearance for these information collections.

The information collected will be used to: (1) Monitor catch and bycatch in federally managed commercial fisheries; (2) understand the population status and trends of fish stocks and protected species, as well as the interactions between them; (3) determine the quantity and distribution of net benefits derived from living marine resources; (4) predict the biological, ecological, and economic impacts of existing management action and proposed management options; and (5) ensure that the observer programs can safely and efficiently collect the information required for the previous four uses. In particular, these biological and economic data collection programs contribute to legally mandated analyses required under the Magnuson-Stevens Fishery Conservation and Management Act (MSA), the Endangered Species Act (ESA), the Marine Mammal Protection Act (MMPA), the National Environmental Policy Act (NEPA), the Regulatory Flexibility Act (RFA), Executive Order 12866 (E.O. 12866), as well as a variety of state statutes. The confidentiality of the data will be protected as required by the MSA, Section 402(b).

On June 12, 2020, The Office of Management and Budget granted approval under the emergency approval provisions of the PRA for NOAA fishery observers to immediately begin collecting safety information related to the COVID-19 national pandemic. Six supplementary safety questions were added to the existing approved information collection request. The questions are necessary to ensure safety of observers and the safety of vessel crew and plant staff during the evolving COVID-19 pandemic as they provide information related to the presence of COVID-19 among vessel crew or plant staff, the availability of safety equipment, and the existence of communicable disease safety plans. Although responses to these questions are voluntary, we encourage industry to respond to facilitate assessment of COVID-19 risks that a deployment may present and any precautionary steps that may be necessary to mitigate such risks.

The approval granted by OMB is valid through December 31, 2020. The 6-month approval allows observers or observer providers to collect this information by a phone call to the operator of a fishing vessel or management of a fish processing plant prior to observer deployment. Currently, there is no way to anticipate an end to the impact of COVID-19 or other communicable diseases. Therefore, NOAA needs to be prepared for the possibility of collecting these data for an extended period of time. NOAA now seeks to extend this information collection request for an additional three years, and proposes to modify the COVID-19 supplemental questions slightly to address all communicable diseases. As with the COVID-19 questions approved by OMB, observers or observer providers would verbally ask these questions prior to deployment. The revised questions to add to the existing information collection request are:

1. In the past 2 weeks, have the captain and crew been following state mandates for travel, physical distancing, or any other restrictions and guidance in response to the current health crisis?

2. Do any crew members currently have two or more symptoms of COVID-19 (fever, chills, cough, shortness of breath, headache, sore throat, new loss of taste or smell) or symptoms of any other communicable disease, such as tuberculosis, Methicillin-resistant Staphylococcus aureus (MRSA), etc.?

3. In the past 2 weeks, have any of the crew tested positive for, or been exposed to, someone who has tested positive for COVID-19 or any other communicable disease, such as tuberculosis, MRSA, etc.?

4. Does the vessel have procedures in place to reduce their exposures to COVID-19 or any other communicable disease, such as tuberculosis, MRSA, etc.?

5. Is there a response plan in place, should someone show symptoms of COVID-19, or any other communicable disease, such as tuberculosis, MRSA, etc., during a trip?

6. Is there a supply of personal protection and sanitizing equipment, such as face coverings, hand sanitizer, etc., onboard the vessel for the crew?

II. Method of Collection

The information will be collected by (1) via telephone or mail survey by the observer program staff or contractor planning to deploy observers; (2) NMFS observers while they are deployed on a vessel to observe a particular fishing trip; questions will be asked in-person to the captain, crew and/or owner (if on board the vessel) during the course of the observed trip; (3) via mail through follow up surveys of economic information not available during the trip; or (4) via feedback questionnaires mailed to the vessel owners or captains to evaluate observer performance.

III. Data

OMB Control Number: 0648-0593.

Form Number(s): None.

Type of Review: Regular (Extension and revision of a current information collection request).

Affected Public: Business or other for-profit organizations.

Estimated Number of Respondents: 19,606 observed annual fishing trips.

Estimated Time per Response: Northeast Fisheries Observer Program and At-Sea Monitors, 117 minutes; North Pacific Groundfish and Halibut Observer Program and Processing Plants, 56 minutes; Alaska Marine Mammal Observer Program, 15 minutes; West Coast Groundfish Observer Program, 58 minutes; Pacific Islands Region Observer Program, 86 minutes; Southeast Shark Fishery Observer Program, 75 minutes; Southeast Pelagic Observer Program, 85 minutes; Gulf of Mexico Reef Fish and Shrimp Observer Program, 110 minutes; West Coast Region Observer Program, 62 minutes; Gulf of Mexico Snapper-Grouper Observer Program, 110 minutes. Information will be collected for observed fishing trips and deployments to fish processing plants; therefore, there will be multiple responses for some respondents, but they will be counted as one response per trip or plant visit.

Estimated Total Annual Burden Hours: 28,420.

Estimated Total Annual Cost to Public: $717,594.

Respondent's Obligation: Voluntary.

Legal Authority: The primary authority for NMFS to place observers on fishing vessels is included in the Magnuson-Stevens Fishery Conservation and Management Act (MSA), the Endangered Species Act (ESA), and the Marine Mammal Protection Act (MMPA).

IV. Request for Comments

We are soliciting public comments to permit NOAA to: (a) Evaluate whether the proposed information collection is necessary for the proper functions of the Agency, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-16632 Filed 7-30-20; 8:45 am]

BILLING CODE 3510-22-P